DEPARTMENT OF HOMELAND SECURITY

Immigration and Customs Enforcement

8 CFR Part 214

[DHS Docket No. ICEB-2021-0016]

RIN 1653-AA87

Removal of Obsolete Procedures and Requirements Related to F, J, and M Nonimmigrants

AGENCY: U.S. Immigration and Customs Enforcement, Department of Homeland Security.

ACTION: Final rule.

SUMMARY: On December 12, 2022, the Department of Homeland Security (DHS) issued an interim final rule, which amended regulations to update information that was no longer accurate since the creation of the Student and Exchange Visitor Information System (SEVIS), the Web-based system DHS uses to collect and maintain current and ongoing information on Student and Exchange Visitor Program (SEVP)-certified schools, F-1 and M-1 nonimmigrant students, and J-1 Exchange Visitor Program participants and their sponsors. DHS is now issuing this final rule that introduces no substantive changes from the interim final rule.

DATES: The effective date of this rule is May 3, 2024.

ADDRESSES: Comments and related materials received from the public are available in DHS Docket No. ICEB-2021-0016. For access to the online docket, go to https://www.regulations.gov and enter “DHS Docket No. ICEB-2021-0016” in the “Search” box.

FOR FURTHER INFORMATION CONTACT: Sharon Snyder, Policy and Response Unit Chief, Student and Exchange Visitor Program, U.S. Immigration and Customs Enforcement, 500 12th Street SW, Stop 5600, Washington, DC 20536-5600; or by email at sevp@ice.dhs.gov or telephone at 703-603-3400 (this is not a toll-free number). Find program information at http://www.ice.gov/sevis/.

SUPPLEMENTARY INFORMATION:

I. Abbreviations

Abbreviation Amplification

CEQ Council on Environmental Quality

CFR Code of Federal Regulations

COVID-19 Coronavirus Disease 2019

DHS Department of Homeland Security

DOJ Department of Justice

DOS Department of State

DSO Designated School Official

EBSVERA Enhanced Border Security and Visa Entry Reform Act of 2002

HSPD-2 Homeland Security Presidential Directive-2

ICE U.S. Immigration and Customs Enforcement

IIRIRA Illegal Immigration Reform and Immigrant Responsibility Act of 1996

INA Immigration and Nationality Act

INS Immigration and Naturalization Service

MD Management Directive

OMB Office of Management and Budget

SEVIS Student and Exchange Visitor Information System

SEVP Student and Exchange Visitor Program

USCIS U.S. Citizenship and Immigration Services

II. Background

A. Purpose of the Regulatory Action

This rule responds to public comments on the interim final rule and finalizes the removal of obsolete procedures and requirements presented in the interim final rule. This final rule introduces no substantive changes and does not raise existing costs. There are no significant changes between the interim final rule and the final rule. In alignment with the Interim Final Rule, the Final Rule places no additional burdens on F, J, and M nonimmigrants, or on sponsoring academic institutions and programs.

B. Legal Authority

Section 102 of the Homeland Security Act of 2002 (Pub. L. 107-296, 116 Stat. 2135), 6 U.S.C. 112, section 103(a)(1) and (3) of the Immigration and Nationality Act (INA), and 8 U.S.C. 1103(a)(1), (3), charge the Secretary with the administration and enforcement of the immigration and naturalization laws of the United States, to include the issuance of regulations. Section 214(a) of the INA, 8 U.S.C. 1184(a), gives the Secretary the authority to prescribe the time and conditions of admission of any noncitizen as a nonimmigrant.

On March 1, 2003, when the responsibilities of the former Immigration and Naturalization Service (INS) transferred from the Department of Justice (DOJ) to DHS pursuant to the Homeland Security Act of 2002, Public Law 107-296, 116 Stat. 2135 (Nov. 25, 2002), SEVP and the SEVIS functions transferred to DHS. Within DHS, U.S. Immigration and Customs Enforcement (ICE) administers SEVP by ensuring that government agencies have essential information related to nonimmigrant students and exchange visitors to preserve national security. For the sake of simplicity in this preamble, in rules promulgated prior to March 1, 2003, any reference to the INS, or “the Service” as it was referred to in the past, is now referred to as DHS, and any reference to the Attorney General is now referred to as the Secretary of Homeland Security (the Secretary).

The INA established who may be admitted as F, J, or M nonimmigrants. Specifically, section 101(a)(15)(F) of the INA, 8 U.S.C. 1101(a)(15)(F), established the F classification for nonimmigrants who wish to enter the United States temporarily and solely for the purpose of pursuing a full course of study at an academic or accredited language training school certified by SEVP, as well as for the spouses and minor children of such noncitizens.

Section 101(a)(15)(J) of the INA, 8 U.S.C. 1101(a)(15)(J), established the J classification for nonimmigrants who wish to come to the United States temporarily to participate in exchange visitor programs designated by the Department of State (DOS), as well as for the spouses and minor children of such noncitizens.

Section 101(a)(15)(M) of the INA, 8 U.S.C. 1101(a)(15)(M), established the M classification for nonimmigrants who wish to enter the United States temporarily and solely for the purpose of pursuing a full course of study at an established vocational or other recognized nonacademic institution (other than a language training program) certified by SEVP, as well as for the spouses and minor children of such noncitizens.

SEVP collects information related to nonimmigrant students and exchange visitors under various statutory authorities. Section 641 of the Illegal Immigration Reform and Immigrant Responsibility Act of 1996 (IIRIRA), Public Law 104-208, 110 Stat. 3009-704 (Sep. 30, 1996) (codified as amended at 8 U.S.C. 1372), authorized the creation of a program to collect current and ongoing information from schools and exchange visitor programs regarding nonimmigrant students and exchange visitors during the course of their stay in the United States and stipulated that such information is to be collected electronically, where practicable. Section 641(e) of IIRIRA further directed that this information collection system be self-funded by the nonimmigrant foreign students and exchange visitors. To meet these requirements, DHS promulgated separate rulemakings that established the framework for SEVIS; required mandatory compliance for all schools to use SEVIS for the admission of new F, J, and M nonimmigrant students; ¹ and provided for the collection of a fee to be paid by certain nonimmigrants seeking status as F-1, F-3, M-1, or M-3 nonimmigrant students or as J-1 nonimmigrant exchange visitors.² The DOS placed similar mandatory SEVIS compliance requirements on DOS-designated Exchange Visitor Program sponsors regarding J nonimmigrants.³

¹ Retention and Reporting of Information for F, J, and M Nonimmigrants; Student and Exchange Visitor Information System (SEVIS), 67 FR 76256 (Dec. 11, 2002).

² Authorizing Collection of the Fee Levied on F, J, and M Nonimmigrant Classifications Under Public Law 104-208; SEVIS, 69 FR 39814 (July 1, 2004).

³ Exchange Visitor Program: SEVIS Regulations, 67 FR 76307 (Dec. 12, 2002).

SEVP is managed in accordance with Homeland Security Presidential Directive-2 (HSPD-2), Combating Terrorism Through Immigration Policies (Oct. 29, 2001), as amended, and section 502 of the Enhanced Border Security and Visa Entry Reform Act of 2002 Public Law 107-173, 116 Stat. 543, 563 (May 14, 2002) (EBSVERA). HSPD-2 requires the Secretary to conduct periodic, ongoing reviews of institutions certified to accept F nonimmigrants, and to include checks for compliance with recordkeeping and reporting requirements. EBSVERA directs the Secretary to review the compliance with recordkeeping and reporting requirements under 8 U.S.C. 1101(a)(15)(F) and 1372 of all schools approved for attendance by F students within two years of enactment, and every two years thereafter. These additional requirements have also been promulgated in rulemakings.⁴

⁴ Allowing Eligible Schools to Apply for Preliminary Enrollment in the Student and Exchange Visitor Information System (SEVIS), 67 FR 44344 (July 1, 2002); Requiring Certification of all Service Approved Schools for Enrollment in the Student and Exchange Visitor Information System (SEVIS), 67 FR 60107 (Sept. 25, 2002); Adjusting Program Fees and Establishing Procedures for Out-of-Cycle Review and Recertification of Schools Certified by the Student and Exchange Visitor Program to Enroll F and/or M Nonimmigrant Students, 73 FR 55683 (Sept. 26, 2008).

C. Student and Exchange Visitor Information System

SEVP uses SEVIS to maintain information about:

• SEVP-certified schools;

• F-1 students enrolled in academic programs in the United States (and their F-2 dependents);

• M-1 students enrolled in vocational programs in the United States (and their M-2 dependents);

• DOS-designated Exchange Visitor Program sponsors; and

• J-1 Exchange Visitor Program participants (and their J-2 dependents).

SEVIS provides authorized users access to reliable information on F, J, and M nonimmigrants and their dependents. Schools use SEVIS to petition SEVP for certification, which allows the school to offer programs of study to nonimmigrant students. Designated school officials (DSOs) of SEVP-certified schools use SEVIS to:

• Update school information and apply for recertification of the school for the continued ability to issue the Form I-20, Certificate of Eligibility for Nonimmigrant Student Status or successor form, to nonimmigrant students and their dependents;

• Issue the Form I-20 or successor form to specific individuals to obtain F or M status while enrolled at the school;

• Fulfill the school's reporting responsibility regarding student addresses, courses of study, enrollment, employment, and compliance with the terms of student status; and

• Transfer student SEVIS records to other institutions.

Exchange Visitor programs use SEVIS to petition DOS for designation as a sponsor so they can offer educational and cultural exchange programs to exchange visitors. Responsible officers of designated Exchange Visitor programs use SEVIS to:

• Update sponsor information and apply for re-designation every two years;

• Issue the Form DS-2019, Certificate of Eligibility for Exchange Visitor (J-1) Status, to specific individuals to obtain J status;

• Fulfill the sponsor's reporting responsibility regarding exchange visitor addresses, sites of activity, program participation, employment, and compliance with the terms of the J status; and

• Transfer the exchange visitor SEVIS records to other institutions.

Noncitizens must apply to an SEVP-certified school and be accepted for enrollment as a student. SEVP-certified schools enter the prospective student's information into SEVIS and issue a Form I-20 or successor form. The prospective student then presents that endorsed form when applying for an F or M visa with DOS abroad. Similarly, a noncitizen must apply to a DOS-designated Exchange Visitor program and be accepted for enrollment as a basis for applying for a J exchange visitor visa. The Exchange Visitor program enters the prospective exchange visitor's information into SEVIS and issues a Form DS-2019. The prospective exchange visitor then submits that endorsed form when applying for a J visa with DOS abroad.

At the time of admission into the United States, U.S. Customs and Border Protection inspection officers will enter information into DHS systems related to the F, J, or M nonimmigrant's admission. These systems interface with SEVIS to provide SEVP and DOS with entry information about nonimmigrant students and exchange visitors.

After admission and during the nonimmigrant student or exchange visitor's stay in the United States, SEVP-certified schools and Exchange Visitor programs are required to update information about approved F, J, and M nonimmigrants. SEVIS allows schools and Exchange Visitor programs to transmit required information electronically about F, J, and M nonimmigrants throughout the nonimmigrant student or exchange visitor's stay in the United States.

SEVIS enables DHS and DOS to monitor and ensure proper recordkeeping and reporting by SEVP-certified schools and Exchange Visitor programs. Further, SEVIS provides a mechanism for nonimmigrant student and exchange visitor status violators to be identified so that appropriate action may be taken (i.e., denial of admission, denial of benefits, or removal from the United States). Prior to the creation of SEVIS in January 2003, enrollment of nonimmigrant students was an entirely manual and paper-based process, which meant that schools maintained their own paper records about nonimmigrant students that were only produced upon request.

D. Interim Final Rule

On December 12, 2022, DHS published an interim final rule which removed obsolete procedures and requirements in 8 CFR 214.1, 214.2, 214.3, 214.4, 214.12, and 214.13 governing F, J, and M nonimmigrants that no longer apply since the implementation of SEVIS in 2003. The rule also removed language requiring original signatures on Form I-17 or successor form and clarified the regulatory language that implies the requirement for original signatures on Form I-20 or successor form, and made technical changes to correct typographical errors, update references, and reflect the transfer of responsibilities to DHS from DOJ.⁵ See Removal of Obsolete Procedures and Requirements Related to F, J, and M Nonimmigrants, 87 FR 75891 (Dec. 12, 2022) (2022 Interim Final Rule), amended by; Removal of Obsolete Procedures and Requirements Related to F, J, and M Nonimmigrants; Correcting Amendments, 88 FR 53761 (Aug. 11, 2023) (correction to 2022 Interim Final Rule). DHS received four comments on the 2022 Interim Final Rule. DHS considered all public comments before issuing this final rule. DHS is finalizing these changes to eliminate confusion and provide clarity to the public. A discussion of the public comments and responses follows later in this preamble.

⁵ Pursuant to the Homeland Security Act of 2002.

E. Regulatory Changes From Interim Final Rule to Final Rule

The interim final rule made general wording, capitalization, and style changes. Some examples of these changes include, replacing numeric symbols under 10 with the corresponding word; inserting indefinite articles where appropriate; and replacing phrases such as “not pursuing” with “no longer pursuing.” Additionally, the interim final rule removed references to “approval” and its derivatives and replaced them with “certify” and its derivatives to mean authorization for schools to enroll foreign students.⁶ Further, the interim final rule updated terminology to reflect the transfer of certain functions and responsibilities of the former INS to DHS. Technical amendments of this nature apply throughout the amended sections. As discussed in the III. Discussion of Public Comments on the Interim Final Rule section below of this final rule, DHS has considered the input provided by commenters in response to the interim final rule. The majority of commenters supported the proposed changes, and DHS is finalizing the changes in the interim final rule, with some non-significant modifications. This final rule amends 8 CFR 214 to clarify who can provide medical evidence, removes and reserves obsolete language related to transfers, and adopts some of the commenters' suggestions.

⁶ SEVP previously used both “certified” and “approved” interchangeably. To eliminate confusion, SEVP now uses only “certify” and its derivatives.

III. Discussion of Public Comments on the Interim Final Rule

A. Summary of Public Comments

In response to the interim final rule, DHS received four public comments from stakeholders, including two institutions of higher education, an association of international educators, and a member of the public. DHS reviewed all the comments and addresses them in this final rule.

Three of the four commenters expressed support for the interim final rule. Two commenters thanked DHS and SEVP for their continued engagement and willingness to modernize. Another commenter said that they welcomed the opportunity to review (the interim final rule) because it helps clarify and streamline the workflow, “which benefits our international students and scholars as well.” One commenter suggested clarifying one of the changes, and the other three offered suggestions for additional regulatory changes. All of the comments were reviewed and considered, but some of the suggestions were out of scope for this final rule and adopting them would require notice and comment; for that reason, those out-of-scope comments were not adopted in this final rule. However, DHS may consider those suggestions when contemplating future enhancements to SEVP and SEVIS.

B. Comments Expressing General Support

Comment: Some commenters described how the interim final rule helps to clarify, streamline, and modernize processes.

Response: DHS appreciates this observation and believes that this rulemaking places no additional burden on F, J, and M nonimmigrants, or on sponsoring academic institutions and programs. Further, DHS observes that eliminating original signatures on the Form I-17 or successor form will further streamline processes because it eliminates the requirement for DSOs to obtain original signatures.

C. Comments Expressing Opposition

DHS received no comments expressing opposition to the interim final rule.

D. Comments Providing Additional Suggestions

Comment: One commenter suggested that DHS clarify the language about who may provide the medical documentation that a DSO must see before authorizing a reduced course load for a nonimmigrant student. The commenter specifically suggests removing “psychiatrist” from the approved provider list. The commenter states that because a psychiatrist is a medical doctor there is no need to parse psychiatrists out from other medical doctors.

Response: DHS agrees with the commenter that medical doctor includes psychiatrist and that the wording about who may provide the medical documentation could be clarified further; therefore, DHS is adopting this suggestion by amending the regulatory text to read: “In order to authorize a reduced course load based upon a medical condition, the student must provide medical documentation from a licensed medical doctor, a licensed doctor of osteopathy, a licensed psychologist, or a licensed clinical psychologist to the DSO to substantiate the illness or medical condition.”

Comment: Some commenters suggested that DHS expand the list of medical providers qualified to provide the medical documentation that a DSO must see before authorizing a reduced course load. For instance, they stated that “these days, many U.S. citizens are likelier to be seen by a nurse practitioner. . ., or a social worker or mental health counselor.”

Response: DHS acknowledges that many health care services can be delivered by a variety of providers, such as the ones suggested by commenters. However, the scope and purpose of this interim final rule and final rule are not to add more medical professionals to the list of accepted medical providers, (see 8 CFR 214.2(f)(6)(iii)(B)), but to clarify the language of the regulation to indicate that a licensed psychologist or psychiatrist could provide the evidence for the student's mental health diagnoses; Expanding the list of medical providers is a significant change that would require public review and comment and is outside the scope of this rulemaking. Therefore, DHS cannot adopt this suggestion at this time, but may consider this suggestion in the event of a future rulemaking.

Comment: Two commenters suggested that DHS should eliminate obsolete wording about transfer procedures.

Response: DHS agrees with this suggestion because the transfer procedures outlined in 8 CFR 214.2(f)(8)(iii) no longer apply since the implementation of SEVIS. DSOs no longer note “transfer completed on (date)” on a student's Form I-20 (or successor form), return the Form I-20 (or successor form) to the student, and send a copy elsewhere. Therefore, DHS is removing and reserving that paragraph.

Comment: One commenter suggested DHS make additional changes to remove other obsolete procedures and requirements, including:

• “Item (2) of Table 2 to Paragraph (f), the paragraph contents of 8 CFR 214.2(f), should be revised by changing `(2) I-20 ID' to `(2) Student maintenance of Form I-20 or successor form.'

• “Remove 8 CFR 214.2(f)(8)(iii), a pre-SEVIS provision.”

• “Remove 8 CFR 214.2(f)(9)(ii)(F)(2), a pre-SEVIS provision.”

• “In 8 CFR 214.2(f)(9)(i), remove the three asterisks (* * *) that appear between the third and fourth sentences.”

• “In 8 CFR 214.2(m)(l)(i)(B), remove the word “SEVIS” that precedes the term `Form 1-20.' ”

• “In 8 CFR 214.2(j)(l)(i), the term `SEVIS Form DS-2019' appears four times. The word `SEVIS' should be removed in those instances.”

• “In 8 CFR 214.2(j)(l)(vii), the term `SEVIS Form DS-2019' appears one time. The word `SEVIS' should be removed in that instance.”

• “To retain parity with the F and M regulations, DHS should consider using the term `Form DS-2019 or successor form' wherever the term `Form DS-2019' appears in 8 CFR 214.1.”

Response: DHS appreciates these suggestions for additional changes and has made some of the suggested corrections already (see ICEB-2021-0016, Correcting amendments, published August 9, 2023). DHS will adopt the suggestions to amend paragraphs 8 CFR 214.2(f) and (m) related to the Form I-20 and pre-SEVIS provisions. However, 8 CFR 214.2(j) falls under the authority of DOS, so DHS cannot adopt the suggestions related to the Form DS-2019.

E. Comments Out of Scope

Comment: One commenter suggested that to meet the student demand for online, hybrid, and in-person courses, and to give schools the ability to offer instruction using these preferred learning styles, DHS should eliminate or reduce the physical presence requirement for nonimmigrant students.

Response: DHS acknowledges that hybrid and online instruction methods are becoming increasingly common. However, changing the regulatory requirement for nonimmigrant students to take no more than the equivalent of one online or distance education course ⁷ is a significant change that would require public review and comment and is outside the scope of this rule; therefore, DHS cannot adopt this suggestion at this time.

⁷ Only one class or three credits per session, term, semester, trimester, or quarter may be counted toward the full course of study requirement if the class is taken online or through distance education and does not require the student's physical attendance for classes, examination, or other purposes integral to completion of the class. If the F-1 student's course of study is in a language training program, no online or distance education classes may be considered to count toward the student's full course of study requirement.

Comment: Some commenters suggested DHS should allow additional reduced course load authorizations beyond what is currently allowed.

Response: Changing regulations to allow nonimmigrant students to engage in less than a full course of study ⁸ with more frequency than is currently allowed under 8 CFR 214.2(f)(6)(iii) is a significant regulatory change that would require public review and comment and is outside the scope of this rule; therefore, DHS cannot adopt this suggestion at this time.

⁸ A full course of study is described in 8 CFR 214.2(f)(6).

Comment: One commenter suggested that DHS should allow DSOs to make exceptions for nonimmigrant students who have not applied for an extension of their program of study.

Response: Allowing DSOs to grant exceptions to nonimmigrant students who did not apply for an extension until after the program end date noted on the Form I-20 or successor form is a significant regulatory change that would require public review and comment and is outside the scope of this rule; therefore, DHS cannot adopt this suggestion at this time.

Comment: Some commenters suggested that DHS should clarify the meaning of “initial” in 8 CFR 214.2(f)(6)(iii)(A), which states, “The DSO may authorize a reduced course load on account of a student's initial difficulty with the English language or reading requirements, unfamiliarity with U.S. teaching methods, or improper course level placement,” noting “it would be helpful to clarify which reasons can (or cannot) be used.” In addition, commenters suggested expanding when the list of reasons may be used to include times beyond the initial period.

Response: DHS interprets the term “initial” as it is used in 8 CFR 214.2(f)(6)(iii)(A) to refer to a new student at the beginning of their studies in the United States. Expanding when the reasons to drop below a full course of study for academic reasons may be used is a significant regulatory change that would require public review and comment and is outside the scope of this rule; therefore, DHS cannot adopt this suggestion at this time.

Comment: One commenter suggested that DHS allow practical training to be authorized once per educational level instead of only allowing an additional 12 months of practical training when a student changes to a higher educational level.

Response: DHS appreciates that practical training is useful to students. However, changing practical training requirements is a significant regulatory change that would require public review and comment and is outside the scope of this rule; therefore, DHS cannot adopt this suggestion at this time.

Comment: One commenter suggested that DHS should allow for “continued authorization of a medical reduced course load beyond 12 months for chronic and/or serious conditions.” The commenter stated that the current policy is discriminatory to students with disabilities.

Response: DHS appreciates that nonimmigrant students with health challenges may require additional time to complete a course of study and is considering how to better address this reality. However, changing the requirements for how long a DSO may authorize a reduced course load (or, if necessary, no course load) due to a chronic or serious illness or a disability is a significant regulatory change that would require public review and comment and is outside the scope of this rule; therefore, DHS cannot adopt this suggestion at this time.

Comment: One commenter suggested that DHS remove the requirement that an optional practical training application must be filed with USCIS within a certain number of days from the date when the DSO recommends it in SEVIS.

Response: Changing practical training requirements is a significant regulatory change that would require public review and comment and is outside the scope of this rule; therefore, DHS cannot adopt this suggestion at this time.

Comment: Some commenters suggested that DHS eliminate the requirement for a travel endorsement signature on the Form I-20 for students returning to the United States from a temporary absence of five months or less.

Response: Eliminating the requirement for returning students to present a properly endorsed Form I-20 (or successor form) is a significant regulatory change that would require public review and comment and is outside the scope of this rule; therefore, DHS cannot adopt this suggestion at this time.

Comment: One commenter suggested that DHS clarify what the term “continues” means in 8 CFR 214.2(f)(5)(ii) and that DHS clarify that the transfer from one educational level to another can be downward as well as upward.

Response: DHS interprets the term “continues” as it is used in 8 CFR 214.2(f)(5)(ii) to mean that a student is maintaining status when they continue to be enrolled, even when transferring from one educational level to another. The term as used here underscores the importance of continued enrollment to maintain status. Adding a description of what “continues” means within the context of 8 CFR 214.2(f)(5)(ii) is a significant regulatory change that would require public review and comment and is outside the scope of this rule; therefore, DHS cannot adopt this suggestion at this time.

V. Statutory and Regulatory Requirements

DHS developed this final rule after considering numerous statutes and Executive orders related to rulemaking. The below sections summarize the analyses based on a number of these statutes or Executive orders.

A. Executive Orders 12866 and 13563

Executive Orders 12866 (Regulatory Planning and Review) as amended by Executive Order 14094 (Modernizing Regulatory Review), and 13563 (Improving Regulation and Regulatory Review) direct agencies to assess the costs and benefits of available regulatory alternatives and, if regulation is deemed to be necessary, to select regulatory approaches that maximize net benefits (including potential economic, environmental, public health, and safety effects; distributive impacts; and equity). Executive Order 13563 emphasizes the importance of quantifying both costs and benefits, reducing costs, harmonizing rules, and promoting flexibility.

This final rule has not been designated a “significant regulatory action” under section 3(f) of Executive Order 12866, as amended by Executive Order 14094. Accordingly, this final rule has not been reviewed by the Office of Management and Budget (OMB).

This final rule removes unnecessary procedures and requirements in 8 CFR 214.1, 214.2, 214.3, 214.4, 214.12, and 214.13 that govern F, J, and M nonimmigrants. These changes are necessary to improve clarity and remove obsolete or unnecessary information that no longer applies since the implementation of SEVIS. This final rule introduces no substantive changes; does not raise existing costs; and places no additional burden on F, J, and M nonimmigrants or their sponsoring academic institutions and programs.

Summary of the Analysis

DHS estimates that this final rule will have no costs and will result in quantifiable cost savings and additional unquantifiable benefits. As shown in Table 1, DHS estimates this final rule will have a 10-year annualized monetized cost savings of $27,568 in 2022 dollars (for both 3 and 7 percent discount rates) and unquantified benefits with regard to convenience, time savings, and improvements to the environment from reduced paper use. Table 1 summarizes the findings of this regulatory impact analysis (RIA).

Table 1—OMB Circular A-4 Accounting Statement
[In millions 2022 dollars]
Category | Impact | Source
Benefits
Annualized Monetized Benefits ($ Mil):
(3%) | $0.03 | RIA.
(7%) | $0.03 | RIA.
Annualized Quantified, but Unmonetized, Benefits
Unquantified Benefits | Convenience and time savings in signature collection Reduced paper use. | RIA.
Costs
Annualized Monetized Costs ($ Mil):
(3%) | No Cost | RIA.
(7%) | No Cost | RIA.
Annualized Quantified, but Unmonetized, Costs | No Cost | RIA.
Qualitative (Un-quantified) Costs | No Cost | RIA.
Transfers
Annualized Monetized Transfers
From Whom to Whom
Other Analyses
Effects on State, Local, and/or Tribal Governments | No Impact | FR.
Effects on Small Business | No Impact | FR.
Effects on Wages
Effects on Growth

Baseline

This section details the regulatory baseline for this final rule. Table 2 below provides a summary of the anticipated changes to baseline conditions.

Table 2—Baseline Analysis
Provision | Description of change | Affected population | Cost impact to affected population | Benefit impact to affected population
Original Signatures for Form I-17 | Removing original signature requirement to allow for greater freedom in adopting electronic signature and transmission of documents | SEVP-certified schools | None | Cost savings for schools in reducing the time needed for school officials to physically sign forms for electronic filing.
All Other Technical Revisions | Changing the wording in the rule to promote clarity and consistency, remove obsolete language, and codify procedures and practices | School officials, students, and others who need to understand and follow the requirements of the rule, including legal practitioners and school administrators | None | The benefit of the rule's greater clarity, accuracy, and currency and the promotion of an overall better understanding of the rule.

The baseline is the state of the world prior to the Coronavirus Disease 2019 (COVID-19) pandemic, in which all signatures on Form I-17 documents were required to be original, rather than electronic. It also includes all of the previous wording in SEVP regulations that would remain unchanged if this final rule does not take effect.

Background and Purpose

SEVP certifies qualifying schools and grants them access to SEVIS. DSOs at these SEVP-certified schools are their primary respondents in terms of reporting data. DSOs collect and enter the required information in SEVIS. That data is used to populate a school's Form I-17 and a student's Form I-20. DSOs carry nearly all of their school's reporting burden.

This final rule removes obsolete procedures and requirements and clarifies regulatory language associated with SEVP. The only quantifiable economic impact is from DHS allowing electronic signatures to replace original signatures on Form I-17 documents, which DSOs must prepare and send electronically to ICE. This change has been in place since 2020, as a result of the COVID-19 allowances that DHS implemented. However, prior to those allowances, DSOs were required to prepare their own paper copies of the Form I-17 documents, with the original signatures of each DSO who was required to sign the form, as well as that of the president, owner, or head of the school. Furthermore, many of those original signatures on any given Form I-17 document had to be made on the same piece of paper (on any pages in the document having space for more than one signature), thus requiring that piece of paper to be physically delivered to each individual who needed to sign their name on the same page. These individuals may be located in different buildings on the same campus, or even on different campuses for schools with more than one campus location. Consequently, the signing of the Form I-17 often required the transport of the same paper document among individuals in different locations and required coordination among them and other school officials to complete the process.

To prevent circulation of paper documents during the pandemic, DHS allowed DSOs to use electronic signature software to sign the Form I-17, rather than requiring original signatures among the various school officials. DSOs can also generate completed Form I-17 documents electronically, without needing to scan the signed paper documents before sending them electronically to ICE. In this final rule, DHS is allowing these cost savings and conveniences to continue permanently after the pandemic is sufficiently mitigated and the COVID-19-related allowances are no longer in effect.

The other changes proposed in this final rule are changes in wording that have largely become obsolete and irrelevant, such as references to “INS” or references to procedures that are no longer implemented. These revisions will improve the clarity, accuracy, and currency of the regulations for school officials, students and others who need to read and understand them.

Analytical Considerations

DHS divided the analysis into two general categories: (1) the effects of DHS allowing Form I-17 documents to be signed and transmitted electronically after the COVID-19-related allowances no longer apply; and (2) the effects of revisions in language, references, and stated procedures to improve the accuracy and clarity of SEVP-related regulations and to codify practices that have already been adopted. Of these two areas of the analysis, DHS determined that only the first (involving electronic signing and transmission of the Form I-17) is amenable to quantitative analysis and to the estimation of benefits and costs. DHS determined that the second area (textual changes to improve the accuracy, clarity, and understanding of the regulations) is not amenable to quantitative measures. DHS made this determination based on the many ambiguities that would exist in any efforts to define and measure such concepts as “clarity,” or to define and measure the extent to which individuals would benefit from such improvements in clarity (such as in time savings or levels of comprehension). Nevertheless, DHS determined that qualitative descriptions of this second area would be sufficient to justify the changes.

DHS identified one effect of this final rule, with regard to electronic signatures for the Form I-17, that could provide an additional benefit. As stated, one of the advantages of electronic signatures is that paper documents no longer need to be physically transported to each person who signs the form. DHS allowance of electronic signatures avoids resources being spent by the school to transport these documents from one place to another for the required school officials to sign them. It also avoids resources being spent to place the documents in envelopes and address them and then for other individuals to open the envelopes and sign the documents.

However, DHS is unable to quantify this potential cost savings. DHS does not have data on how many people on average need to sign the form and how far away they are from each other (such as whether they have offices adjacent to each other or they are at campuses in different cities). Adding to the uncertainty would be whether the transport of these documents occurred along with other documents between the offices, so that no separate delivery was required to transport them individually. The burden of these original signatures would depend on whether school employees needed to take extra time to transport the documents separately from other documents delivered via intra-campus mail. DHS also does not have data on the time needed to produce electronic signatures, which would then need to be subtracted from the time needed to sign the paper documents for DHS to estimate the cost savings of electronic signatures. For example, if the mechanisms for officials to electronically sign documents are easily accomplished on their computers, it might not take very long to sign. However, if officials must follow complicated procedures on their computer to provide those electronic signatures, then it might take more time to sign.

Time Horizon for the Analysis

DHS estimates the economic effects of this final rule will be sustained indefinitely. ICE used a 10-year timeframe (from 2023 through 2032) to outline, quantify, and monetize the costs and benefits of this final rule, and to demonstrate its net effects.

Affected Population

This final rule affects two types of entities: (1) SEVP-certified schools (and the DSOs who work for those SEVP-certified schools), and (2) any individuals and organizations that might benefit from improvements in the way the regulations are written, including offices within DHS that interact with the affected SEVP-certified schools, and various U.S.-based and international organizations that may assist or represent F and M nonimmigrant students. In 2022, SEVP-certified schools submitted in SEVIS a total of 8,535 distinct Form I-17 documents to ICE.

Costs of the Rule

DHS determined that there are no costs associated with this final rule. When considering the cost of this final rule, DHS determined that there are no costs for SEVP-certified schools to develop information-technology capabilities to electronically sign and transmit documents. DHS assumes that SEVP-certified schools already have the necessary information technology capabilities in place to electronically sign and transmit the Form I-17 documents.

Cost Savings

DHS estimated the cost savings to SEVP-certified schools if paper copies and original signatures are no longer needed for the Form I-17 documents in accordance with this final rule. Table 3 displays these cost savings, estimated at $27,568 per year, in 2022 dollars. This cost savings estimate is based on 8,535 Form I-17 documents submitted to ICE in 2022. Without this final rule in place, DSOs would have to provide their original signatures on the Form I-17, as they did before the COVID-19 pandemic. DSOs would then need to scan these documents and send an electronic copy of them to ICE. DHS estimated that each document would require approximately 3 minutes of labor to be scanned. As shown in Table 3, this results in total labor costs of $19,033. DHS estimated the average number of pages per Form I-17 document to be 10 pages, which, at an estimated cost of $0.10 per page for paper and printing, contributes to an additional cost savings of $8,535.

⁹ Total DSO compensation of $44.68 is based on the mean hourly national wage estimates for Educational, Guidance, and Career Counselors and Advisors multiplied by the benefits-to-wage multiplier for civilian workers, calculated as $30.87 * 1.45. The benefits-to-wage multiplier represents the employee wages and benefits costs paid by employers, as calculated by BLS for civilian workers, and is calculated as follows: ($43.93 Total Employee Compensation per hour)/($30.35 Wages and Salaries per hour) = 1.44744 = 1.45 (rounded). See U.S. Bureau of Labor Statistics, Occupational Employment and Wage Statistics: 21-1012 Educational, Guidance, and Career Counselors and Advisors, May 2022, https://www.bls.gov/oes/2022/may/oes211012.htm; and U.S. Bureau of Labor Statistics, Economic News Release, Employer Cost for Employee Compensation (September 2023), Table 1, Employer Costs for Employee Compensation by ownership (dated December 15, 2023), https://www.bls.gov/news.release/archives/ecec_12152023.htm. Last accessed January 30, 2024.

Table 3—Cost Savings From Original Signatures Not Required for Form I-17
[In 2022 dollars]
Factor in the analysis | Measures | Costs savings
A. Number of Forms I-17 Scanned in 2022 | 8,535 |
B. Number of Minutes to Scan Each Document | 3 |
C. Hourly Labor Rate for DSO ⁹ | $44.68 |
D. Estimated Labor Cost Per Document Scanned [(B/60) × C] | $2.23 |
E. Total Labor Costs (A × D) |  | $19,033
F. Estimated Pages Per Scan | 10 |
G. Estimated Cost Per Page (for Paper and Printing) | $0.10 |
H. Estimated Paper Costs Per Mailing (H × I) | $1.00 |
I. Total Paper Costs (A × H) |  | 8,535
Total Cost Savings for Not Preparing and Scanning the Forms I-17 (E+I) |  | 27,568

Table 4 summarizes the impact of this final rule over the 10-year period, starting in 2023. The 10-year discounted cost-savings of this final rule in 2022 dollars would range from $193,626 to $235,161 (with 7 percent and 3 percent discount rates, respectively).

Table 4—Total Estimated Cost Savings
[In 2022 dollars]
Year | Undiscounted | Discounted at 3% | Discounted at 7%
1 | $27,568 | $26,765 | $25,765
2 | 27,568 | 25,986 | 24,079
3 | 27,568 | 25,229 | 22,504
4 | 27,568 | 24,494 | 21,032
5 | 27,568 | 23,780 | 19,656
6 | 27,568 | 23,088 | 18,370
7 | 27,568 | 22,415 | 17,168
8 | 27,568 | 21,762 | 16,045
9 | 27,568 | 21,129 | 14,995
10 | 27,568 | 20,513 | 14,014
Total | 275,681 | 235,161 | 193,626
Annualized |  | 27,568 | 27,568

Qualitative Cost Savings

As previously described, the qualitative benefits of this final rule include benefits to those who may need to understand and follow the regulations, including school officials and organizations that assist or represent F and M students. Specifically, the technical revisions increase clarity, accuracy, and currency, and promote a better understanding of the regulation.

Analysis of Alternatives

Because this final rule does not pose any costs to the public or to the government, DHS is not able to find any alternative that could have any lower costs. In principle, even when the costs of a new rule are zero, an alternative rule could still be preferable if that rule could offer higher benefits, and thus higher net benefits. However, this too would not be possible in this case, because the benefits of any comparable rule could only be in the same form as the benefits of this final rule—those benefits being cost savings (for SEVP-certified schools). For any alternative to offer greater benefits, it would need to reduce the costs that SEVP-certified schools incur in processing and delivering Form I-17 documents. Because this final rule already allows for electronic signatures and submission of the forms by email, there are no less-expensive alternatives to preparing and distributing the forms.

DHS considered the no-action alternative for this final rule. Table 5 summarizes the effects of this alternative. The no-action alternative would result in continued costs to SEVP-certified schools for original signatures and would maintain obsolete language. As a result, DHS rejected this alternative.

Table 5—Summary of Alternatives
Action | Benefits | Costs
Take No-Action | None | 1. Annual costs to SEVP-certified schools of $27,568 due to the preparation and scanning of Form I-17 documents (reverting to the pre-COVID signature requirement). 2. Cost associated with the greater difficulty imposed on school officials, students, and others who need to understand and follow requirements governing F and M nonimmigrant students due to the obsolescence of certain language in the current regulatory text.

B. Regulatory Flexibility Act

The Regulatory Flexibility Act of 1980 (RFA), 5 U.S.C. 601-612, as amended, requires Federal agencies to consider the potential impact of regulations on small entities during rulemaking. However, a regulatory flexibility analysis is not required when a rule is exempt from notice-and-comment rulemaking; therefore, since this action is exempt under the Administrative Procedure Act, it is not subject to the regulatory flexibility analysis requirements. See 5 U.S.C. 604(a).

C. Small Business Regulatory Enforcement Fairness Act of 1996

This is not a major rule, as defined by section 804 of the Small Business Regulatory Enforcement Act of 1996. This final rule will not result in an annual effect on the United States economy of $100 million or more; a major increase in costs or prices; or significant adverse effects on competition, employment, investment, productivity, innovation, or the ability of United States-based companies to compete with foreign-based companies in domestic and export markets.

D. Executive Order 13132: Federalism

This final rule will not have substantial direct effects on the States, on the relationship between the National Government and the States, or on the distribution of power and responsibilities among the various levels of government. Therefore, in accordance with section 6 of Executive Order 13132, it is determined that this final rule does not have sufficient federalism implications to warrant the preparation of a federalism summary impact statement.

E. Unfunded Mandates Reform Act of 1995

This final rule will not result in the expenditure by state, local, and tribal governments, in the aggregate, or by the private sector, of $100 million (in 1995 dollars) or more in any one year, and it will not significantly or uniquely affect small governments. Therefore, no actions were deemed necessary under the provisions of the Unfunded Mandates Reform Act of 1995.

F. Congressional Review Act

This final rule is not a major rule as defined by 5 U.S.C. 804, also known as the “Congressional Review Act,” as enacted in section 251 of the Small Business Regulatory Enforcement Fairness Act of 1996, Public Law 104-121, 110 Stat. 847, 868 et seq. This final rule will not result in an annual effect on the economy of $100 million or more; a major increase in costs or prices; or significant adverse effects on competition, employment, investment, productivity, innovation, or the ability of U.S.-based enterprises to compete with foreign-based enterprises in domestic and export markets. See 5 U.S.C. 804(2). The rule will be submitted to Congress and GAO consistent with the Congressional Review Act's requirements no later than its effective date.

G. Executive Order 12988 Civil Justice Reform

This final rule meets the applicable standards set forth in sections 3(a) and 3(b)(2) of Executive Order 12988.

H. Paperwork Reduction Act

Under the Paperwork Reduction Act of 1995, Public Law 104-13, all departments are required to submit to OMB, for review and approval, any reporting requirements inherent in a rule. This final rule does not impose any new reporting or recordkeeping requirements under the Paperwork Reduction Act.

I. National Environmental Policy Act

DHS Management Directive 023-01 Rev. 01 and Instruction Manual 023-01-001-01 Rev. 01 establishes the policy and procedures that DHS and its Components use to comply with the National Environmental Policy Act of 1969 (NEPA), 42 U.S.C. 4321-4375, and the Council on Environmental Quality (CEQ) regulations for implementing NEPA, 40 CFR parts 1500 through 1508.

The CEQ regulations enable Federal agencies to establish categories of actions that do not individually or cumulatively have a significant effect on the human environment and, therefore, do not require an Environmental Assessment or Environmental Impact Statement. 40 CFR 1508.4. The DHS Categorical Exclusions are listed in IM 023-01-001-01 Rev. 01, Appendix A, Table 1.

For an action to be categorically excluded, the action must satisfy each of the following three conditions:

1. The entire action clearly fits within one or more of the Categorical Exclusions;

2. The action is not a piece of a larger action; and

3. No extraordinary circumstances exist that create the potential for a significant environmental effect. IM 023-01-001-01 Rev. 01 section V(B)(2)(a)-(c).

If the action does not clearly meet all three conditions, DHS or the Component prepares an Environmental Assessment or Environmental Impact Statement, according to CEQ requirements, MD 023-01, and IM 023-01-001-01 Rev. 01.

DHS has analyzed this action under MD 023-01 Rev. 01 and IM 023-01-001-01 Rev.01. DHS has made a determination that this rulemaking action is one of a category of actions that do not individually or cumulatively have a significant effect on the human environment. This action clearly fits within the Categorical Exclusion found in IM 023-01-001-01 Rev. 01, Appendix A, Table 1, number A3(d): “Promulgation of rules, issuance of rulings or interpretations, and the development and publication of policies, orders, directives, notices, procedures, manuals, advisory circulars, and other guidance documents of the following nature: (d) Those that interpret or amend an existing regulation without changing its environmental effect.” This final rule is not part of a larger action and presents no extraordinary circumstances creating the potential for significant environmental effects. Therefore, a more detailed NEPA review is not necessary. DHS seeks any comments or information that may lead to the discovery of any significant environmental effects from this final rule.

J. Executive Order 13175: Consultation and Coordination With Indian Tribal Governments

DHS reviewed this final rule and has determined that under Executive Order 13175, Consultation and Coordination with Indian Tribal Governments, it will not have a substantial direct effect on one or more Indian tribes, on the relationship between the Federal Government and Indian tribes, or on the distribution of power and responsibilities between the Federal Government and Indian tribes.

K. Executive Order 12630: Governmental Actions and Interference With Constitutionally Protected Property Rights

DHS reviewed this final rule and has determined that it will not cause a taking of private property or otherwise have taking implications under Executive Order 12630, Governmental Actions and Interference with Constitutionally Protected Property Rights.

L. Executive Order 13045: Protection of Children From Environmental Health Risks and Safety Risks

DHS reviewed this final rule and has determined that it does not create an environmental risk to health or risk to safety that might disproportionately affect children.

M. National Technology Transfer and Advancement Act

DHS reviewed this final rule and determined that it does not use technical standards.

N. Family Assessment

DHS has determined that this action would not affect family well-being within the meaning of section 654 of the Treasury and General Government Appropriations Act, enacted as part of the Omnibus Consolidated and Emergency Supplemental Appropriations Act of 1999 (Pub. L. 105-277, 112 Stat. 2681).

List of Subjects in 8 CFR Part 214

Administrative practice and procedure, Aliens, Cultural exchange program, Employment, Foreign officials, Health professions, Reporting and recordkeeping requirements, Students.

Amendments to the Regulations

DHS amends part 214 of chapter I, of title 8 of the Code of Federal Regulations as follows:

PART 214—NONIMMIGRANT CLASSES

1. The authority citation for part 214 continues to read as follows:

Authority: 6 U.S.C. 202, 236; 8 U.S.C. 1101, 1102, 1103, 1182, 1184, 1186a, 1187, 1221, 1281, 1282, 1301-1305, 1357, and 1372; sec. 643, Pub. L. 104-208, 110 Stat. 3009-708; Pub. L. 106-386, 114 Stat. 1477-1480; section 141 of the Compacts of Free Association with the Federated States of Micronesia and the Republic of the Marshall Islands, and with the Government of Palau, 48 U.S.C. 1901 note and 1931 note, respectively; 48 U.S.C. 1806; 8 CFR part 2; Pub. L. 115-218, 132 Stat. 1547 (48 U.S.C. 1806).

2. Amend § 214.2 as follows:

a. In Table 2 to Paragraph (f)—Paragraph Contents, item (2), remove “I-20 ID” and add in its place “Form I-20 or successor form”.

b. Paragraph (f)(6)(iii)(B) is revised.

c. Paragraph (f)(8)(iii) is removed and reserved.

d. Paragraph (f)(9)(ii)(F)(2) is removed and reserved.

e. In paragraph (m)(l)(i)(B), remove “SEVIS Form I-20” and add in its place “Form 1-20”.

f. The introductory text of paragraph (m)(9)(vi) is revised.

The revisions read as follows:

§ 214.2 Special requirements for admission, extension, and maintenance of status.

* * * * *

(f) * * *

(6) * * *

(iii) * * *

(B) Medical conditions. The DSO may authorize a reduced course load (or, if necessary, no course load) due to a student's temporary illness or medical condition for a period of time not to exceed an aggregate of 12 months while the student is pursuing a course of study at a particular program level. In order to authorize a reduced course load based upon a medical condition, the student must provide medical documentation from a licensed medical doctor, a licensed doctor of osteopathy, a licensed psychologist, or a licensed clinical psychologist to the DSO to substantiate the illness or medical condition. The student must provide current medical documentation and the DSO must reauthorize the drop below full course of study each new term, session, or semester. A student previously authorized to drop below a full course of study due to illness or medical condition for an aggregate of 12 months may not be authorized by a DSO to reduce their course load on subsequent occasions while pursuing a course of study at the same program level. A student may be authorized to reduce course load for a reason of illness or medical condition on more than one occasion while pursuing a course of study, so long as the aggregate period of that authorization does not exceed 12 months.

* * * * *

(m) * * *

(9) * * *

(vi) Reduced course load. The designated school official may authorize an M-1 student to engage in less than a full course of study only where the student has been compelled by illness or a medical condition that has been documented by a licensed medical doctor, a licensed doctor of osteopathy, a licensed psychologist, or a licensed clinical psychologist to interrupt or reduce their course of study. A DSO may not authorize a reduced course load for more than an aggregate of 5 months per course of study. An M-1 student previously authorized to drop below a full course of study due to illness or medical condition for an aggregate of 5 months, may not be authorized by the DSO to reduce their course load on subsequent occasions during their particular course of study.

Alejandro N. Mayorkas,
Secretary, U.S. Department of Homeland Security.

[FR Doc. 2024-06657 Filed 4-2-24; 8:45 am]

BILLING CODE 9111-CB-P